DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: “Talk. They Hear You.” Campaign Evaluation: National Survey—NEW

SAMHSA's Center for Substance Abuse Prevention (CSAP) is requesting approval from the Office of Management and Budget (OMB) for a new data collection, “Talk. They Hear You.” Campaign Evaluation: National Survey. This collection includes two instruments:

1. Screener

2. Survey Tool

The national survey is part of a larger effort to evaluate the impact of the “Talk. They Hear You.” campaign. These evaluations will help determine the extent to which the campaign has been successful in educating parents and caregivers nationwide about effective methods for reducing underage drinking (UAD). The campaign is designed to educate and empower parents and caregivers to talk with children about alcohol. To prevent initiation of underage drinking, the campaign targets parents and caregivers of children aged 9-15, with the specific aims of:

1. Increasing parent or caregiver awareness of and receptivity to campaign messages (knowledge);

2. Increasing parent or caregiver awareness of underage drinking prevalence (knowledge);

3. Increasing parent or caregiver disapproval of underage drinking (attitudes);

4. Increasing parent or caregiver knowledge, skills, and confidence in how to talk to their children about, and prevent, UAD (attitudes); and

5. Increasing parent or caregiver actions to prevent underage drinking by talking to their children about UAD (behaviors).

The national survey will target parents in the base year in 2018, and then annually in the 4 option years following that, making this a repeat cross-sectional research study. The survey will be based on the survey originally approved for use in the 2016 impact evaluation, which was designed to quantify parent and caregiver awareness of the campaign and retention of campaign messages, and to determine whether parents and caregivers have used the campaign materials in talking to their children. SAMHSA will seek to conduct this research nationwide through online surveys. The survey will be accessible via an access link that will be disseminated to respondents via email. Respondents will be recruited to participate in this online survey from a Qualtrics© panel (which hosts more than 6 million active panelists), as was done for the survey pilot conducted in 2016. Researchers will conduct a quota-based sampling approach to maximize the representativeness of the sample and will be oversampling the Hispanic population. This will allow us to achieve a representative sample of parents of middle-school-aged children in the United States across notable socioeconomic and demographic variables of interest to the study. This approach will also allow us to oversample minority populations, such as Hispanics, as necessary in order to achieve the diversity needed to yield a comprehensive set of opinions, experiences, and feedback of the “Talk. They Hear You.” campaign materials and products.

Table 1—Estimated Burden for Respondents
Category of respondent | Number of respondents | Responses per respondent | Total number of responses | Hours per response (hours) | Total hour burden
Individuals (Screened) | 5,555 | 1 | 5,555 | .05 | 277.75
Individuals (Complete survey) | 5,000 | 1 | 5,000 | .17 | 850
Totals | 5,555 |  | 10,555 |  | 1,127.75

Written comments and recommendations concerning the proposed information collection should be sent by July 16, 2018 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2018-12864 Filed 6-14-18; 8:45 am]

BILLING CODE 4162-20-P